ENVIRONMENTAL PROTECTION AGENCY

[ER-FRL-6617-3]

Environmental Impact Statements; Notice of Availability

Responsible Agency: Office of Federal Activities, General Information (202) 564-7167 or www.epa.gov/oeca/ofa.

Weekly Receipt of Environmental Impact Statements Filed April 9, 2001. Through April 13, 2001. Pursuant to 40 CFR 1506.9

EIS No. 010120, DRAFT EIS, FHW, TX, President George Bush Turnpike (PGBT) Segment IV, Improvement from Interstate Highway 35E to Interstate Highway 635, Funding and COE Section 404 Permit, Dallas County, TX, Comment Period Ends: June 4, 2001, Contact: Patrick Bauer (512) 536-5950.

EIS No. 010121, FINAL EIS, AFS, MT, Mill-Key-Wey Project, Proposed Timber Harvesting, Ecosystem Burning, Road Construction and Reconstruction, Implementation, Lolo National Forest, Superior Ranger District, Mineral County, MT, Wait Period Ends: May 21, 2001, Contact: Cindy Enstrom (406) 822-3928.

EIS No. 010122, FINAL EIS, AFS, SD, Jasper Fires Value Recovery Area Project, Implementation, Revised Forest Plan for the Black Hills National Forest, Hell Canyon and Mystic Ranger District, Custer and Pennington Counties, SD, Wait Period Ends: May 21, 2001, Contact: Alice Allen (605) 673-4853.

EIS No. 010123, DRAFT SUPPLEMENT, FHW, WI, US-12 Highway Corridor Project, Improvement from IH90/94 at Lake Delton south to Ski Hi Road, Updated Information, Funding and COE Section 404 Permit, Sauk County, WI, Comment Period Ends: June 4, 2001, Contact: Johnny Gerbiltz (608) 829-7510.

EIS No. 010124, FINAL EIS, AFS, CA, Ansel Adams, John Muir, Dinkey Lakes and Monarch Wildernesses, Proposed New Management Direction, Amending the Land and Resource Management Plans for the Inyo, Sierra and Sequoia National Forests, Implementation, Inyo, Madera, Mono and Fresno Counties, CA, Wait Period Ends: May 21, 2001, Contact: Mary Beth Hennessy (760) 873-2448.

EIS No. 010125, DRAFT EIS, AFS, MT, Cave Gulch Post-Fire Salvage Sale, Harvesting Dead or Dying Trees, Implementation, Helena National Forest, Big Belts Mountain, Lewis and Clark Counties, MT, Comment Period Ends: June 4, 2001, Contact: Jerry Meyer (406) 449-5201.

EIS No. 010126, FINAL EIS, FHW, MO, New Mississippi River Crossing, Relocated I-70 and I-64 Connector, Funding, COE Section 404 and 10 Permits and NPDES Permit, St. Louis County, MO, Wait Period Ends: May 21, 2001, Contact: Ronald C. Marshall (217) 492-4640.

Amended Notices

EIS No. 010034, DRAFT SUPPLEMENT, FAA, UT, Cal Black Memorial Airport Project, New and Updated Information for the Replacing of Halls Crossing Airport, within the boundary of Glen Canyon National Recreation, Halls Crossing, San Juan Counties, UT, Comment Period Ends: April 30, 2001, Contact: Dennis Ossenkop (206) 227-2611. Revision of FR Notice Published on 02/09/2001: CEQ Review Period Ending 03/30/2001 has been Extended to 04/30/2001.

Dated: April 17, 2001.
Joseph C. Montgomery,
Director, NEPA Compliance Division, Office of Federal Activities.

[FR Doc. 01-9865 Filed 4-19-01; 8:45 am]

BILLING CODE 6560-50-U